DEPARTMENT OF ENERGY

Federal Energy Regulatory Commission

[Project No. 13237-001]

Whitman River Dam, Inc.; Notice of Intent To File License Application, Filing of Pre-Application Document, and Approving Use of the Traditional Licensing Process

February 5, 2010.

a. Type of Filing: Notice of Intent to File License Application and Request to Use the Traditional Licensing Process.

b. Project No.: 13237-001.

c. Date Filed: November 20, 2009.

d. Submitted By: Whitman River Dam, Inc.

e. Name of Project: Crocker Pond Project.

f. Location: The project would be located at the existing Crocker Pond Dam, on the Whitman River, in Worcester County, Massachusetts. The project would not occupy any federal land.

g. Filed Pursuant to: 18 CFR 5.3 of the Commission's regulations.

h. Potential Applicant Contact: Mr. Robert T. Francis, Whitman River Dam, Inc., P.O. Box 145, 10 Tommy Francis Road, Westminster, MA 01473; (978) 874-1010.

i. FERC Contact: Jeff Browning, (202) 502-8677, or jeffrey.browning@ferc.gov.

j. Whitman River Dam, Inc. filed its request to use the Traditional Licensing Process on November 20, 2009. Whitman River Dam, Inc. provided public notice of its request on December 17, 2009. In a letter dated February 1, 2010, the Director of the Office of Energy Projects approved the Whitman River Dam, Inc. request to use the Traditional Licensing Process.

k. With this notice, we are initiating informal consultation with: (a) the U.S. Fish and Wildlife Service under section 7 of the Endangered Species Act; and (b) the Massachusetts State Historic Preservation Officer, as required by section 106, National Historical Preservation Act, and the implementing regulations of the Advisory Council on Historic Preservation at 36 CFR 800.2.

l. Whitman River Dam, Inc. filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

Register online at http://ferc.gov/esubscribenow.htm to be notified via e-mail of new filing and issuances related to this or other pending projects. For assistance, contact FERC Online Support.

Kimberly D. Bose,
Secretary.

[FR Doc. 2010-3105 Filed 2-18-10; 8:45 am]

BILLING CODE 6717-01-P